DEPARTMENT OF THE INTERIOR

Bureau of Land Management

[LLIDB00100 L17110000.PH0000 241A 4500013040]

Notice of Permanent Closure on Public Lands in Ada County, ID

AGENCY: Bureau of Land Management, Interior.

ACTION: Notice of permanent closure.

SUMMARY: On April 12, 2010, Higby Cave and all public lands within 1,000 feet of the entrance were permanently closed to vehicle access and public use at all times, due to changes in the cave's structural integrity and related potential hazards. The cave entrance has been gated and access limited to BLM-permitted and administrative activities. Exempt from this order are BLM employees, authorized permittees, and other Federal, State and County employees while on official business of their respective agencies, including associated vehicle use for administrative and emergency purposes.

DATES: This closure of public land became effective on April 12, 2010.

FOR FURTHER INFORMATION CONTACT: Jarod Fluckiger, Outdoor Recreation Planner, Morley Nelson Snake River Birds of Prey National Conservation Area at the Boise District Office, 3948 Development Avenue, Boise, Idaho 83705, via e-mail at jarod_fluckiger@blm.gov, or phone (208) 384-3342.

SUPPLEMENTARY INFORMATION: Higby Cave lies in the S½NW¼ NW¼ and N½SW¼ NW¼ of Section 32, T.1 S., R.3 E., Boise Meridian, Ada County, Idaho, in an area containing approximately 72 acres. This closure is intended to provide for public safety and protect public land and resources from further degradation. The cave entrance has been enclosed with a bat-friendly gate, and vehicle access to the area around the cave is now blocked by the placement of large rocks at the closure perimeter. Signs have also been posted at routes leading into the area.

The decision to close Higby Cave was analyzed in the Snake River Birds of Prey National Conservation Area (NCA) Proposed Resource Management Plan/Final Environmental Impact Statement (2008), and in the Environmental Assessment (2010) to implement the decision.

This closure is established and administered by the BLM under the authority of Section 303(a) of the Federal Land Policy and Management Act of 1976 (43 U.S.C. 1733(a)) and complies with 43 CFR 8364.1 (Closure and Restriction Orders). In accordance with 43 CFR 8360.0-7, violation of this order is punishable by a fine not to exceed $1,000 and/or imprisonment not to exceed 12 months. Violators may also be subject to the enhanced fines provided for in 18 U.S.C. 3571.

Definitions: (a) “Public lands” means any lands or interests in lands owned by the United States and administered by the Secretary of the Interior through the Bureau of Land Management; (b) “Administrative purposes” means any use by an employee or designated representative of the Federal government or one of its agents or contractors in the course of their employment or representation; and (c) “Emergency purposes” means actions related to fire, rescue or law enforcement activities.

Terry Humphrey,
Four Rivers Field Manager.

[FR Doc. 2010-19049 Filed 8-2-10; 8:45 am]

BILLING CODE 4310-GG-P